DEPARTMENT OF HOMELAND SECURITY

Coast Guard

33 CFR Part 100

[Docket No. USCG-2017-0968]

Special Local Regulation; Fautasi Ocean Challenge Canoe Race, Pago Pago Harbor, American Samoa

AGENCY: Coast Guard, DHS.

ACTION: Notice of enforcement of regulation.

SUMMARY: The Coast Guard will enforce a Special Local Regulation for the Fautasi Ocean Challenge Canoe Race on the dates of November 10, 17, and 24, 2017, to safeguard the participants and spectators, including all crews, vessels, and persons on the water in Pago Pago Harbor during the event. This regulation will functionally close the port to vessel traffic during the race, but will not require the evacuation of any vessels from the harbor. Entry into, transiting, or anchoring in the harbor will be prohibited to all vessels not registered with the sponsor as participants or not part of the race patrol, unless specifically authorized by the Captain of the Port (COTP) Honolulu or a designated representative. Vessels that are already moored or anchored in the harbor seeking permission to remain there shall request permission from the COTP unless deemed a spectator vessel that is moored to a waterfront facility within the regulated area.

DATES: The regulations in 33 CFR 100.1401 will be enforced from 7:00 a.m. to 4:00 p.m. on the dates of November 10, 17, and 24, 2017.

FOR FURTHER INFORMATION CONTACT: If you have questions about this notice of enforcement, call or email Lieutenant Commander John Bannon, Waterways Management Division, U.S. Coast Guard Sector Honolulu; telephone (808) 541-4359, email john.e.bannon@uscg.mil.

SUPPLEMENTARY INFORMATION: The Coast Guard will enforce a Special Local Regulation in 33 CFR 100.1401 for the Fautasi Ocean Challenge Canoe Race from 7:00 a.m. to 4:00 p.m. on the dates of November 10, 17, and 24, 2017. This action is being taken to safeguard the participants and spectators, including all crews, vessels, and persons on the water in Pago Pago Harbor during the event. This regulation for the marine events, which will encompass portions of Pago Pago Harbor. During the enforcement periods, as reflected in 33 CFR 100.1401(c), if you are the operator of a vessel in the regulated area you must comply with directions from the Captain of the Port (COTP) Honolulu or a designated representative.

This notice of enforcement is issued under authority of 33 CFR 100 and 5 U.S.C. 552 (a). In addition to this notice of enforcement in the Federal Register, the Coast Guard plans to provide notification of this enforcement period via the Local Notice to Mariners and Broadcast Notice to Mariners.

Dated: October 6, 2017.
M.C. Long,
Captain, U.S. Coast Guard, Captain of the Port Honolulu.

[FR Doc. 2017-22191 Filed 10-12-17; 8:45 am]

BILLING CODE 9110-04-P